DEPARTMENT OF LABOR

Mine Safety and Health Administration

[OMB Control No. 1219-0040]

Proposed Extension of Information Collection; Independent Contractor Registration and Identification

AGENCY: Mine Safety and Health Administration, Labor.

ACTION: Request for public comments.

SUMMARY: The Department of Labor (DOL), as part of its continuing effort to reduce paperwork and respondent burden, conducts a pre-clearance consultation program to provide the general public and Federal agencies with an opportunity to comment on proposed collections of information, in accordance with the Paperwork Reduction Act of 1995. This program helps to ensure that requested data can be provided in the desired format, reporting burden (time and financial resources) is minimized, collection instruments are clearly understood, and the impact of collection requirements on respondents can be properly assessed. The Mine Safety and Health Administration (MSHA) is soliciting comments on the information collection entitled Independent Contractor Registration and Identification.

DATES: All comments must be received on or before December 3, 2024.

ADDRESSES: Comments concerning the information collection requirements of this notice may be sent by any of the methods listed below. Please note that late comments received after the deadline will not be considered.

• Federal E-Rulemaking Portal: https://www.regulations.gov. Follow the on-line instructions for submitting comments for docket number MSHA-2024-0020.

• Mail/Hand Delivery: DOL-MSHA, Office of Standards, Regulations, and Variances, 201 12th Street South, 4th Floor West, Arlington, VA 22202-5452. Before visiting MSHA in person, call 202-693-9455 to make an appointment, in keeping with the Department of Labor's COVID-19 policy. Special health precautions may be required.

• MSHA will post all comments as well as any attachments, except for information submitted and marked as confidential, in the docket at https://www.regulations.gov.

FOR FURTHER INFORMATION CONTACT: S. Aromie Noe, Director, Office of Standards, Regulations, and Variances, MSHA, at MSHA.information.collections@dol.gov (email); (202) 693-9440 (voice); or (202) 693-9441 (facsimile). These are not toll-free numbers.

SUPPLEMENTARY INFORMATION:

I. Background

A. Legal Authority

Section 103(h) of the Federal Mine Safety and Health Act of 1977 (Mine Act) as amended, 30 U.S.C. 813(h), authorizes the Mine Safety and Health Administration (MSHA) to collect information necessary to carry out its duty in protecting the safety and health of miners. Further, section 101(a) of the Mine Act, 30 U.S.C. 811(a), authorizes the Secretary of Labor (Secretary) to develop, promulgate, and revise as may be appropriate, improved mandatory health or safety standards for the protection of life and prevention of injuries in coal, metal, and nonmetal mines.

B. Information Collection

In order to fulfill the statutory mandates to promote miners' health and safety, MSHA requires the collection of information under the information collection request entitled Independent Contractor Registration and Identification. The information collection is intended to ensure that MSHA can identify independent contractors in metal and nonmetal (MNM) mines and have records where they have worked.

Independent contractors perform services or construction at a mine. They may be engaged in any type of work performed at a mine, including activities such as clearing land, excavating ore, processing minerals, maintaining or repairing equipment, or constructing new buildings or new facilities, such as shafts, hoists, conveyors, or kilns.

Independent contractors vary in the number of their employees, the type of work performed, and the time spent working at mine sites. Some independent contractors work only at mines while others may work one time at a mine and never return to MSHA jurisdiction. Independent contractors may also move from mine to mine or may be present at several mines at once.

The work performed at mines can pose serious dangers to independent contractors' employees. From January 1, 2018, through December 31, 2023, 192 mine workers were fatally injured in mining accidents; 40 of those were employed by independent contractors. Under 30 CFR 45.3, independent contractors may follow the specified requirements to obtain an MSHA identification number and procedures for service of documents upon independent contractors. The purpose of this rule is to facilitate implementation of MSHA's enforcement policy of holding independent contractors responsible for violations committed by them and their employees.

1. Obtaining Contractor Identification Numbers (MSHA Form 7000-52)

In order to ensure that independent contractors are responsible for any employee violations while working at mines, contractor identification numbers (INs) are given to employees, either voluntarily, or issues during the first citation of that employee.

Under 30 CFR 45.2, an independent contractor is defined as “any person, partnership, corporation, subsidiary of a corporation, firm, association or other organization that contracts to perform services or construction at a mine.”

Under 30 CFR 45.3, independent contractors may voluntarily obtain a permanent identification number by submitting to MSHA District Manager in writing the following information:

(i) The trade name and business address;

(ii) An address of record for service of documents;

(iii) A telephone number where they can be contacted; and

(iv) The estimated annual hours worked by the independent contractor on mine property for the previous calendar year.

MSHA assigns an identification number (IN) to an independent contractor if the contractor requests one or, if not requested, the Agency issues an IN the first time the independent contractor is cited for a violation of either a mandatory standard or the Mine Act. An independent contractor applying for IN numbers must submit MSHA Form 7000-52.

2. Independent Contractor Register Disclosure

Information on all independent contractors working at a mine must be available to the production-operator at all times. Therefore, contractors must submit information to the production-operator.

Under 30 CFR 45.2, a production-operator is defined as “any owner, lessee, or other person who operates, controls or supervises a coal or other mine.” Under 30 CFR 45.4(a), each independent contractor must provide to the production-operator in writing the following information:

(i) The trade name, business address, and business telephone number;

(ii) A description of the nature of the work and a location at the mine where the work is to be performed;

(iii) MSHA independent contractor IN, if any; and

(iv) The independent contractor's business address of record for service of citations, or other documents involving the independent contractor.

3. Recordkeeping of Independent Contractors

Once independent contractors send the correct information to the production-operator, it is the production-operators' responsibility to keep the information, in writing at the mine, for each independent contractor at the mine.

Under 30 CFR 45.4(b), the production-operator must maintain certain information, provided by the independent contractor as required by 30 CFR 45.4(a), concerning each independent contractor at the mine. The information must be made available by the production-operator to any MSHA inspector upon request.

II. Desired Focus of Comments

MSHA is soliciting comments concerning the proposed information collection related to Independent Contractor Registration and Identification. MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request will be available on https://www.regulations.gov. MSHA cautions the commenter against providing any information in the submission that should not be publicly disclosed. Full comments, including personal information provided, will be made available on https://www.regulations.gov and https://www.reginfo.gov.

The public may also examine publicly available documents at DOL-MSHA, Office of Standards, Regulations and Variances, 201 12th Street South, 4th Floor West, Arlington, VA 22202-5452. Sign in at the receptionist's desk on the 4th Floor via the West elevator. Before visiting MSHA in person, call 202-693-9455 to make an appointment, in keeping with the Department of Labor's COVID-19 policy. Special health precautions may be required.

Questions about the information collection requirements may be directed to the person listed in the FOR FURTHER INFORMATION CONTACT section of this notice.

III. Current Actions

This information collection request concerns provisions for Independent Contractor Registration and Identification. MSHA has updated the data with respect to the number of respondents, responses, time burden, and burden costs supporting this information collection request from the previous information collection request.

Type of Review: Extension, without change, of a currently approved collection.

Agency: Mine Safety and Health Administration.

OMB Number: 1219-0040.

Affected Public: Business or other for-profit.

Number of Annual Respondents: 22,792.

Frequency: On occasion.

Number of Annual Responses: 167,801.

Annual Time Burden: 18,220 hours.

Annual Other Burden Costs: $989.

MSHA Form: MSHA Form 7000-52, Contractor Identification (IN) Request.

Comments submitted in response to this notice will be summarized and included in the request for Office of Management and Budget approval of the proposed information collection request; they will become a matter of public record and be available at https://www.reginfo.gov.

Song-ae Aromie Noe,
Certifying Officer, Mine Safety and Health Administration.

[FR Doc. 2024-22921 Filed 10-3-24; 8:45 am]

BILLING CODE 4510-43-P